DEPARTMENT OF JUSTICE

DEPARTMENT OF THE INTERIOR

DEPARTMENT OF COMMERCE

National Oceanic and Atmospheric Administration

Notice of Lodging of Proposed Consent Decree Under the Comprehensive Environmental Response, Compensation, and Liability Act (CERCLA), the Clean Water Act (CWA), and the Oil Pollution Act (OPA) and Notice of Availability of Draft Restoration Plan/Environmental Assessment of Restoration Project Incorporated Into Proposed Consent Decree

On November 12, 2020, the Department of Justice lodged a proposed consent decree with the United States District Court for the Western District Washington in the lawsuit entitled United States of America, State of Washington, Suquamish Tribe, and Muckleshoot Indian Tribe v. City of Seattle, Civil Action No. 16-1486 (W.D. Wa.).

The complaint asserts claims for natural resource damages by the United States on behalf of the National Oceanic and Atmospheric Administration and the Department of the Interior; the State of Washington; the Suquamish Tribe; and the Muckleshoot Indian Tribe (collectively, the “Natural Resource Trustees”) pursuant to the section 107(a) of the Comprehensive Environmental Response, Compensation, and Liability Act (CERCLA), 42 U.S.C. 9607(a); section 311 of the Clean Water Act (CWA), 33 U.S.C. 1321; section 1002(b) of the Oil Pollution Act (OPA), 33 U.S.C. 2702(b); and the Washington Model Toxics Control Act (MTCA), RCW 70.105D.

The proposed consent decree settles claims for natural resource damages caused by hazardous substances released from City of Seattle facilities along the Lower Duwamish Waterway. Under the proposed consent decree, the City of Seattle will purchase restoration credits in one or more projects approved by the Natural Resource Trustees to create habitat for injured natural resources, including various species of fish and birds. The City of Seattle also will establish conservation easements on parcels along the Lower Duwamish Waterway to ensure that restoration projects constructed on those parcels are preserved, and the City will pay approximately $91,000 of the Trustees' damage assessment costs. The City will also pay Bluefield Holdings, Inc., to operate and maintain a restoration project under the Trustees' oversight, and Bluefield will reimburse the Trustees' future oversight costs for this project. The Natural Resource Trustees will provide the City of Seattle with covenants not to sue under the statutes listed in the complaint and proposed consent decree for specified natural resource damages.

The Natural Resource Trustees have developed a Draft Restoration Plan and Environmental Assessment (“RP/EA”) for Project 1, the restoration project incorporated into the Consent Decree that is being developed by Bluefield Holdings, Inc. The Draft RP/EA proposes to select Project 1 as one of the projects to address injuries to natural resources in the Lower Duwamish Waterway.

The publication of this notice opens a period for public comment on the proposed Consent Decree and the Draft RP/EA. Comments on the proposed Consent Decree should be addressed to the Assistant Attorney General, Environment and Natural Resources Division, and should refer to United States, State of Washington, Suquamish Tribe, and Muckleshoot Indian Tribe v. City of Seattle, D.J. Ref. No. 90-11-3-07227/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $21.25 (without attachments) or $57.00 (with attachments) (25 cents per page reproduction cost) payable to the United States Treasury.

The publication of this notice also opens a period for public comment on the Draft RP/EA. The Trustees will receive comments relating to the draft RP/EA for a period of thirty (30) days from the date of this publication. A copy of the Draft RP/EA is available electronically at https://www.fws.gov/wafwo/. A copy of the Draft RP/EA also may be obtained by mail from: Assistant Solicitor, Environmental Restoration Branch, Office of the Solicitor, U.S. Department of the Interior, 1849 C Street NW, Washington, DC 20240.

Please reference: Draft RP/EA related to United States et al. v. City of Seattle Consent Decree. When requesting a copy of the Draft RP/EA please enclose a check in the amount of $7.50 (25 cents per page reproduction cost) payable to the United States Treasury.

Comments on the draft RP/EA may be submitted electronically to jeff_krausmann@fws.gov. Additionally, written comments on the Draft RP/EA should be addressed to: Jeff Krausmann, Washington Fish and Wildlife Office, U.S. Fish and Wildlife Service, 510 Desmond Drive SE, Suite 102, Lacey, WA 98503-1263, Jeff_krausmann@fws.gov.

Susan M. Akers,
Assistant Section Chief, Environmental Enforcement Section, Environment and Natural Resources Division.

[FR Doc. 2020-26442 Filed 11-30-20; 8:45 am]

BILLING CODE 4410-15-P